DEPARTMENT OF THE INTERIOR

Bureau of Land Management

[LLWY-957400-13-L16100000-BJ0000]

Filing of Plats of Survey, Wyoming and Nebraska

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys, supplementals and remonumentations were executed at the request of the Bureau of Land Management and the U.S. Forest Service, and are necessary for the management of resources. The lands surveyed are:

The plat and field notes representing the dependent resurvey of portions of Lot No. 38 and Lot No. 39, a portion of the Eleventh Auxiliary Meridian West, through Township 52 North, between Ranges 92 and 93 West, and a portion of the subdivisional lines, and the survey of the subdivision of section 1, Township 52 North, Range 93 West, Sixth Principal Meridian, Wyoming, Group No. 825, was accepted January 16, 2013.

The plat and field notes representing the dependent resurvey of portions of the north boundary and subdivisional lines, Township 17 North, Range 102 West, Sixth Principal Meridian, Wyoming, Group No. 840, was accepted January 16, 2013.

The plat and field notes representing the dependent resurvey of a portion of the east boundary and a portion of the subdivisional lines, and the survey of the subdivision of sections 13 and 24, Township 29 North, Range 76 West, Sixth Principal Meridian, Wyoming, Group No. 628, was accepted April 10, 2013.

The plat and field notes representing the dependent resurvey of portions of Tract No. 44 and Tract No. 54, and a portion of the subdivisional lines, and the survey of the subdivision of sections 22 and 23, Township 21 North, Range 116 West, Sixth Principal Meridian, Wyoming, Group No. 854, was accepted April 10, 2013.

The plat and field notes representing the dependent resurvey of portions of the south and west boundary, a portion of the subdivisional lines, and a portion of the subdivision of section 28, and the survey of the subdivision of sections 28, 30, 31 and 32, Township 27 North, Range 71 West, Sixth Principal Meridian, Wyoming, Group No. 863, was accepted April 10, 2013.

The plat and field notes representing the dependent resurvey of a portion of the subdivisional lines, and the survey of the subdivision of sections 4, 8, 9 and 17, Township 26 North, Range 72 West, Sixth Principal Meridian, Wyoming, Group No. 865, was accepted April 10, 2013.

The supplemental plat correcting the distance along the Eighth Standard Parallel North, through R. 4 W., from the standard ¼ section corner of section 33 to the east 1/16 section corner of section 4 is based upon the dependent resurvey plat accepted March 24, 2006, Township 32 North, Range 4 West, Sixth Principal Meridian, Nebraska, Group No. 178, was accepted May 31, 2013.

The supplemental plat showing the corrected lot numbering along the north boundaries of sections 2 and 4 is based upon the dependent resurvey plat accepted January 15, 2009, Township 22 North, Range 94 West, Sixth Principal Meridian, Wyoming, Group No. 878, was accepted May 31, 2013.

The supplemental plat showing the corrected lotting of section 6 is based upon the duplicate original and triplicate original plats approved November 24, 1871, Township 16 North, Range 77 West, Sixth Principal Meridian, Wyoming, Group No. 879, was accepted May 31, 2013.

The supplemental plat correcting the parenthetical distances of the North half of the east boundary of section 4 is based upon the dependent resurvey plat accepted November 3, 2011, Township 19 North, Range 75 West, Sixth Principal Meridian, Wyoming, Group No. 885, was accepted May 31, 2013.

The field notes representing the remonumentation of the standard ¼ section corner of section 36, the ¼ section corner of sections 31 and 36, T. 13 N., Rs. 83 and 84 W., and the ¼ section corner of sections 25 and 36, Township 13 North, Range 84 West, Sixth Principal Meridian, Wyoming, Group No. 624, was accepted May 31, 2013.

Copies of the preceding described plats and field notes are available to the public at a cost of $1.10 per page.

Dated: June 10, 2013.
John P. Lee,
Chief Cadastral Surveyor, Division of Support Services.

[FR Doc. 2013-14261 Filed 6-14-13; 8:45 am]

BILLING CODE 4310-22-P